DEPARTMENT OF TRANSPORTATION

National Highway Traffic Safety Administration

[Docket No. NHTSA-2007-27802]

Reports, Forms, and Recordkeeping Requirements

AGENCY: National Highway Traffic Safety Administration, Department of Transportation (NHTSA).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document proposes to consolidate four existing collections of information into two collections, and seeks comments accordingly. The first information collection proposes consolidatation of OMB control numbers 2127-0511, “49 CFR 571.213, Child Restraint Systems,” and 2127-0576, “Child Safety Seat Registration,” into a new one. Thus, all child restraint labeling and registration requirements would be included in one information collection entitled “Consolidated Child Restraint System Registration, Labeling and Defect Notifications” (OMB Control Number: 2127-0576).

The second information collection proposes to merge the existing OMB control number 2127-0038, “49 CFR 571.205, Glazing Materials,” into 2127-0512, “Consolidated Labeling Requirements for Motor Vehicles (except the VIN).”

DATES: You should submit your comments early enough to ensure that Docket Management receives them no later than June 8, 2007.

ADDRESSES: You may submit comments [identified by DOT DMS Docket Number NHTSA-2007-27802] by any of the following methods:

• Web site:http://dms.dot.gov. Follow the instructions for submitting comments on the DOT electronic docket site.

• Fax: 1-202-493-2251.

• Mail: Docket Management Facility; U.S. Department of Transportation, 400 Seventh Street, SW., Nassif Building, Room PL-401, Washington, DC 20590-0003.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this collection. It is requested, but not required, that two copies of the comments be provided. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Complete copies of each request for collection of information may be obtained at no charge from Mr. Maurice Hicks, NHTSA, 400 Seventh Street, SW., Room 5320, NVS-113, Washington, DC 20590.

Mr. Hicks' telephone number is (202) 366-6345. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

(1.) Title: Consolidated Child Restraint System Registration, Labeling and Defect Notifications.”

OMB Control Number: 2127-0576.

Requested Expiration Date of Approval: Three years from the approval date.

Type of Request: Consolidation of OMB control numbers 2127-0511, “49 CFR 571.213, Child Restraint Systems,” and 2127-0576, “Child Safety Seat Registration.”

Affected Public: Business, Individuals and Households.

Summary of the Collection of Information: This action consolidates two existing collections of information. In the previous collections of information: (1) A collection was established to require manufacturers to provide owner registration cards and to label each child restraint system (CRS) with a message informing users of the importance of registering the device with the manufacturer, and (2) another collection was issued to allow NHTSA to implement a registration program to send CRS owners a substitute registration form if owners had lost the registration card. Furthermore, in the second collection, it was also required that if either NHTSA or a manufacturer determines that a CRS contains a defect that relates to motor vehicle safety or fails to comply with an applicable Federal Motor Vehicle Safety Standard, pursuant to Chapter 301 of title 49 of the United States, the manufacturer must notify owners and purchasers of the defect or noncompliance and must provide a remedy without charge. The proposed revised collection will consolidate these provisions.

Child restraint manufacturers are required to provide an owner's registration card for purchasers of child safety seats in accordance with title 49 of the Code of Federal Regulation (CFR), part 571-section 213, “Child Restraint Systems.” The registration card is perforated into two-parts (see Figures 1 and 2). The top part contains a message and suitable instructions to be retained by the purchaser. The bottom part is to be returned to the manufacturer by the purchaser. The bottom part includes prepaid return postage, the pre-printed name/address of the manufacturer, the pre-printed model and date of manufacture, and spaces for the purchaser to fill in his/her name and address. Optionally, child restraint manufacturers are permitted to add to the registration form: (a) Specified statements informing CRS owners that they may register online; (b) the Internet address for registering with the company; (c) revisions to statements reflecting use of the Internet to register; and (d) a space for the consumer's e-mail address. For those CRS owners with access to the Internet, online registration may be a preferred method of registering a CRS.

In addition to the registration card supplied by the manufacturer, NHTSA has implemented a CRS registration system to assist those individuals who have either lost the registration card that came with the CRS or purchased a previously owned CRS. Upon the owner's request, NHTSA provides a substitute registration form that can be obtained either by mail or from the Internet ¹ (see Figure 3). When the completed registration is returned to the agency, it is then submitted to the CRS manufacturers. In the absence of a substitute registration system, many owners of child passenger safety seats, especially any second-hand owners, might not be notified of safety defects and noncompliances, and would not have the defects and noncompliances remedied.

¹ http://www.nhtsa.dot.gov/staticfiles/DOT/NHTSA/Vehicle%20Safety/Articles/Associated%20Files/csregfrm.pdf.

Child seat owner registration information is retained in the event that owners need to be contacted for defect recalls or replacement campaigns. Chapter 301 of title 49 of the United States Code specifies that if either NHTSA or a manufacturer determines that motor vehicles or items of motor vehicle equipment contain a defect that relates to motor vehicle safety or fail to comply with an applicable Federal Motor Vehicle Safety Standard, the manufacturer must notify owners and purchasers of the defect or noncompliance and must provide a remedy without charge. In title 49 of the CFR, part 577, defect and noncompliance notification for equipment items, including child restraint systems, must be sent by first class mail to the most recent purchaser known to the manufacturer.

Child restraint manufacturers are also required to provide a printed instructions brochure with step-by-step information on how the restraint is to be used. Without proper use, the effectiveness of these systems is greatly diminished. Each child restraint system must also have a permanent label. A permanently attached label gives “quicklook” information on whether the restraint meets the safety requirements, recommended installation and use, and warnings against misuse.

Estimated Annual Burden: 265,500 hours.

Number of Respondents: 15.

The total burden hours for this collection consist of: (1) The administrative hours spent to produce registration cards and labels, (2) the hours spent collecting registration information, and (3) the hours spent by CRS manufacturers to create and keep records.

Currently, approximately 15 CRS manufacturers produce,[ras1] on average, a total of approximately 4,500,000 child restraints each year. [ras2] NHTSA has determined that approximately 1,575,000 owners or purchasers register (i.e., either by registration card, NHTSA registration form or by the Internet) their child seats with the CRS manufacturers each year (an estimated 35 percent return rate x 4,500,000 restraints).

For each child restraint system, a CRS manufactures must spend 0.025 hours to cut/print, label and to attach a registration card. A manufacturer must also spend 0.04 hours to collect the information for each returned registration and then spend a total of 0.02 hours to create and keep a record on each child restraint system. Given these estimates, the estimated total annual burden hours for this collection of information are 265,500 hours. This number reflects the combination of 112,500 hours to produce materials (0.025 hours per seat × 4,500,000 child restraints), 63,000 hours to collect registrations (0.04 hours per seat × 1,575,000 registrations) and 90,000 hours to create and keep records (0.02 hours per seat × 4,500,000 child restraints) each year.

(2) Title: Consolidated Labeling Requirements for Motor Vehicles (Except the VIN).

OMB Control Number: 2127-0512.

Requested Expiration Date of Approval: Three years from the approval date.

Type of Request: Consolidation of OMB control numbers 2127-0038, “49 CFR 571.205, Glazing Materials,” and 2127-0512, “Consolidated Labeling Requirements for Motor Vehicles (except the VIN).”

Affected Public: Business.

Summary of the Collection of Information: Because of the similarities in the collections of information, NHTSA seeks to combine the provisions of the existing collection for glazing materials labeling into a collection for labeling information for five other Federal motor vehicle safety standards.

49 U.S.C. 30111 authorizes the issuance of Federal motor vehicle safety standards (FMVSS) and regulations. The agency, in prescribing a FMVSS or regulation, considers available relevant motor vehicle safety data, and consults with other agencies, as it deems appropriate. Further, the statute mandates that in issuing any FMVSS or regulation, the agency considers whether the standard or regulation is ”reasonable, practicable and appropriate for the particular type of motor vehicle or item of motor vehicle equipment for which it is prescribed,” and whether such a standard will contribute to carrying out the purpose of the Act. The Secretary is authorized to invoke such rules and regulations as deemed necessary to carry out these requirements. Using this authority, the agency issued the following FMVSS and regulations, specifying labeling requirements to aid the agency in achieving many of its safety goals:

FMVSS No. 105, “Hydraulic and electric brake systems,”

FMVSS No. 135, “Passenger car brake systems,”

FMVSS No. 205, “Glazing materials,”

FMVSS No. 209, “Seat belt assemblies,”

Part 567, “Certification.”

This notice requests comments on the labeling requirements of these FMVSS and regulations.

Description of the need for the information and proposed use of the information: In order to ensure that manufacturers are complying with the FMVSS and regulations, NHTSA requires a number of specific labeling requirements in FMVSS Nos. 105, 135, 205, 209 and part 567. FMVSS No. 105, ”Hydraulic and electric brake systems” and FMVSS No. 135, ”Passenger car brake systems,” require that each vehicle shall have a brake fluid warning statement in letters at least one-eighth of a inch high on the master cylinder reservoirs and located so as to be visible by direct view.

Federal Motor Vehicle Safety Standard No. 205, ”Glazing materials,” provides labeling requirements for glazing and motor vehicle manufacturers. In accordance with the standard, NHTSA requires each new motor vehicle glazing manufacturer to request and be assigned a unique mark or number. This number is then used by the manufacturer as their unique company identification on their self-certification label on each piece of motor vehicle glazing. As part of that certification label, the company must identify itself with the simple two or three digit number assigned by the agency. FMVSS No. 205 requires that manufacturers mark their automotive glazing with certain label information including:

Manufacturer's distinctive trademark;

Manufacturer's ”DOT” code number;

Model of glazing (there are currently 21 items of glazing ranging from plastic windows to bullet resistant windshields).

In addition to these requirements, which apply to all glazings, certain specialty items such as standee windows in buses, roof openings, and interior partitions made of plastic require that the manufacturer affix a removable label to each item. The label specifies cleaning instructions to minimize the loss of transparency. Other information may be provided by the manufacturer but is not required.

FMVSS No. 209, ”Seat belt assemblies,” requires safety belts to be labeled with the year of manufacture, the model, and the name or trademark of the manufacturer (S4.1(j)).

Additionally, replacement safety belts that are for use only in specifically stated motor vehicles must have labels or accompanying instruction sheets to specify the applicable vehicle models and seating positions (S4.1(k)). All other replacement belts are required to be accompanied by an installation instruction sheet (S4.1(k)). Seat belt assemblies installed as original equipment in new motor vehicles need not be labeled with position/model information.

Part 567, “Certification,” responds to 49 U.S.C. 30111 that requires each manufacturer or distributor of motor vehicles to furnish to the dealer or distributor of the vehicle a certification that the vehicle meets all applicable FMVSS. This certification is required by that provision to be in the form of a label permanently affixed to the vehicle.

Under 49 U.S.C. 32504, vehicle manufacturers are directed to make a similar certification with regard to bumper standards. To implement this requirement, NHTSA issued 49 CFR part 567. The agency's regulations establish form and content requirements for the certification labels.

Description of the Likely Respondents (Including Estimated Number and Proposed Frequency of Response to the Collection of Information): NHTSA anticipates that approximately 21 new prime glazing manufacturers per year will contact the agency and request a manufacturer identification number. These new glazing manufacturers must submit one letter, one time, identifying their company. In turn, the agency responds by assigning them a unique manufacturer number. For other collections in this notice, no response is necessary from manufacturers. These labels are only required to be placed on each master cylinder reservoir, each safety belt and every motor vehicle intended for retail sale in the United States. Therefore, the number of respondents is not applicable.

Estimate of the Total Annual Reporting and Recordkeeping Burden Resulting from the Collection of Information: Based upon previous notice and comments for those information collections, NHTSA estimates that all manufacturers will need a total of 73,071 hours to comply with these requirements, at a total annual cost of $1,096,065.

Comments are invited on: Whether the proposed collections of information are necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Authority: 44 U.S.C. 3506(c); delegation of authority at 49 CFR 1.50.

Issued in Washington, DC, on April 2, 2007.
Roger A. Saul,
Director, Crashworthiness Standards.

BILLING CODE 4910-59-P

[FR Doc. E7-6523 Filed 4-6-07; 8:45 am]

BILLING CODE 4910-59-C